Title 3—

The President

Memorandum of December 21, 2006

Provision of Aviation Insurance Coverage for Commercial Air Carrier Service in Domestic and International Operations

Memorandum for the Secretary of Transportation

By the authority vested in me as President by the Constitution and laws of the United States, including 49 U.S.C. 44302, et seq., and 3 U.S.C. 301, I hereby:

1. determine that continuation of U.S.-flag commercial air service is necessary in the interest of air commerce, national security, and the foreign policy of the United States;

2. approve provision by the Secretary of Transportation (Secretary) of insurance or reinsurance to U.S.-flag air carriers against loss or damage arising out of any risk from the operation of an aircraft in the manner and to the extent provided in Chapter 443 of 49 U.S.C.:

(a) until August 31, 2007;

(b) after August 31, 2007, but no later than December 31, 2007, when the Secretary determines that such insurance or reinsurance cannot be obtained on reasonable terms and conditions from any company authorized to conduct an insurance business in a State of the United States; and

3. delegate to the Secretary the authority vested in me by 49 U.S.C. 44306(c) to extend this determination for additional periods beyond August 31, 2007, but no later than December 31, 2007, when the Secretary finds that the continued operation of aircraft to be insured or reinsured is necessary in the interest of air commerce or the national security, or to carry out the foreign policy of the United States Government.

You are directed to bring this determination immediately to the attention of all air carriers within the meaning of 49 U.S.C. 40102(2), and to arrange for its publication in the Federal Register.

THE WHITE HOUSE,

Washington, December 21, 2006.

[FR Doc. 06-9891

Filed 12-22-06; 8:45 am]

Billing code 4910-62-M